DEPARTMENT OF AGRICULTURE

Motor Vehicles: FY 2005, Prior, and Future Annual Alternative Fuel Vehicle (AFV) Reports

AGENCY: Departmental Administration, Agriculture.

ACTION: Notice of Availability of USDA FY 2005, prior, and future annual AFV Reports.

SUMMARY: In accordance with the Energy Policy Act of 1992 (EPAct) (42 U.S.C. 13211-13219) as amended by the Energy Conservation Reauthorization Act of 1998 (Pub. L. 105-388), and Executive Order (EO) 1349, “Greening the Government Through Federal Fleet and Transportation Efficiency,” the Department of Agriculture's FY 2005, prior, and future year annual AFV reports are available on the following Department of Agriculture Web site: http://www.usda.gov/energyandenvironment/altFuel/index.htm.

FOR FURTHER INFORMATION CONTACT: James Michael, Jr., (202) 720-8616.

Dated: March 29, 2006.
W.R. Ashworth,
Director, Office of Procurement and Property Management.

[FR Doc. 06-3274 Filed 4-5-06; 8:45 am]

BILLING CODE 3410-98-M